DEPARTMENT OF LABOR

Employment And Training Administration

[TA-W-55,656]

Bombardier Transporation, A Subsidiary Of Bombardier, Inc., Propulsion Division, Pittsburgh, PA; Amended Certification Regarding Eligibility To Apply for Worker Adjustment Assistance

In accordance with Section 223 of the Trade Act of 1974 (19 U.S.C. 2273), as amended, the Department of Labor issued a Certification of Eligibility to Apply for Worker Adjustment Assistance on November 1, 2004, applicable to workers of Bombardier Transportation, a subsidiary of Bombardier, Inc., Propulsion Division, Pittsburgh, Pennsylvania. The notice will be published soon in the Federal Register.

At the request of the State agency, the Department reviewed the certification for workers of the subject firm. The workers are engaged in the production of propulsion equipment.

New information shows that there was a previous certification, TA-W-41,025, issued on June 21, 2002, for workers of Bombardier Transportation, a subsidiary of Bombardier, Inc., Propulsion Division, Pittsburgh, Pennsylvania who were engaged in employment related to the production of propulsion equipment. That certification expired June 21, 2004. To avoid an overlap in worker group coverage, the certification is being amended to change the impact date from September 8, 2003 to June 22, 2004, for workers of the subject firm.

The amended notice applicable to TA-W-55,656 is hereby issued as follows:

“All workers of Bombardier Transportation, a subsidiary of Bombardier, Inc., Propulsion Division, Pittsburgh, Pennsylvania (TA-W-55,656), who became totally or partially separated from employment on or after June 22, 2004, through November 1, 2006, are eligible to apply for adjustment assistance under Section 223 of the Trade Act of 1974.”

Signed in Washington, DC this 7th day of December 2004.
Linda G. Poole,
Certifying Officer, Division of Trade Adjustment Assistance.

[FR Doc. E4-3736 Filed 12-17-04; 8:45 am]

BILLING CODE 4510-30-P